FEDERAL COMMUNICATIONS COMMISSION

47 CFR Part 64

[CG Docket Nos. 03-123, 10-51, 13-24; FCC 22-51; FR ID 114538]

VRS Rules Governing Communications Assistants and International Calling

AGENCY: Federal Communications Commission.

ACTION: Proposed rule.

SUMMARY: The Federal Communications Commission (FCC or Commission) proposes to modify or eliminate certain provisions of its Video Relay Service (VRS) rules. Specifically, the Commission proposes to: increase from 50% to 80% the portion of a VRS provider's monthly minutes that may be handled by Communications Assistants (CAs) working from home; reduce or eliminate the three-year experience rule for CAs working from home, and allow VRS providers to use contract CAs for 30% of the providers' monthly call minutes; and allow Telecommunications Relay Services (TRS) Fund compensation of calls placed by registered VRS users to the United States from outside the country, for up to one year after leaving the country, as long as they notify their provider of such travel at any time before placing the first such call. The Commission also requests comment on whether any other at-home VRS rules should be modified.

DATES: Comments are due January 9, 2023. Reply comments are due February 6, 2023.

ADDRESSES: You may submit comments, identified by CG Docket Nos. 03-123, 10-51, and 13-24, by either of the following methods:

• Federal Communications Commission's Website: https://www.fcc.gov/ecfs/filings. Follow the instructions for submitting comments.

• Paper Filers: Parties who choose to file by paper must file an original and one copy of each filing. If more than one docket or rulemaking number appears in the caption of this proceeding, filers must submit two additional copies for each additional docket or rulemaking number. Filings can be sent by hand or messenger delivery, by commercial overnight courier, or by first-class or overnight U.S. Postal Service mail. All filings must be addressed to the Commission's Secretary, Office of the Secretary, Federal Communications Commission.

For detailed instructions for submitting comments and additional information on the rulemaking process, see document FCC 22-51 at https://docs.fcc.gov/public/attachments/FCC-22-51A1.pdf.

FOR FURTHER INFORMATION CONTACT: William Wallace, Disability Rights Office, Consumer and Governmental Affairs Bureau, at 202-418-2716, or William.Wallace@fcc.gov.

SUPPLEMENTARY INFORMATION: This is a summary of the Commission's Notice of Proposed Rulemaking, document FCC 22-51, adopted on June 28, 2022, released on June 30, 2022, in CG Docket Nos. 03-123, 10-51, and 13-24. The full text of document FCC 22-51 is available for public inspection and copying via the Commission's Electronic Comment Filing System (ECFS).

To request materials in accessible formats for people with disabilities (Braille, large print, electronic files, audio format), send an email to fcc504@fcc.gov or call the Consumer and Governmental Affairs Bureau at (202) 418-0530.

Ex Parte Rules. This proceeding shall be treated as a “permit-but-disclose” proceeding in accordance with the Commission's ex parte rules. 47 CFR 1.1200 et seq. Persons making ex parte presentations must file a copy of any written presentation or a memorandum summarizing any oral presentation within two business days after the presentation (unless a different deadline applicable to the Sunshine period applies). Persons making oral ex parte presentations are reminded that memoranda summarizing the presentation must (1) list all persons attending or otherwise participating in the meeting at which the ex parte presentation was made, and (2) summarize all data presented and arguments made during the presentation. If the presentation consisted in whole or in part of the presentation of data or arguments already reflected in the presenter's written comments, memoranda, or other filings in the proceeding, the presenter may provide citations to such data or arguments in his or her prior comments, memoranda, or other filings (specifying the relevant page and/or paragraph numbers where such data or arguments can be found) in lieu of summarizing them in the memorandum. Documents shown or given to Commission staff during ex parte meetings are deemed to be written ex parte presentations and must be filed consistent with § 1.1206(b) of the Commission's rules. In proceedings governed by § 1.49(f) or for which the Commission has made available a method of electronic filing, written ex parte presentations and memoranda summarizing oral ex parte presentations, and all attachments thereto, must be filed through the electronic comment filing system available for that proceeding, and must be filed in their native format (e.g., .doc, .xml, .ppt, searchable .pdf). Participants in this proceeding should familiarize themselves with the Commission's ex parte rules.

Synopsis

Background

1. Under section 225 of the Communications Act of 1934, as amended (the Act), 47 U.S.C. 225, the Commission must ensure that TRS is available “to the extent possible and in the most efficient manner” to persons “in the United States” who are deaf, hard of hearing, or deafblind, or who have speech disabilities, so that they can communicate by telephone in a manner that is functionally equivalent to voice communication service. VRS, a form of TRS, enables people with hearing or speech disabilities who use sign language to make telephone calls over a broadband connection using a video communication device. The video link allows a CA to view and interpret the party's signed conversation and relay the conversation back and forth with a voice caller. Providers of VRS are compensated from the TRS Fund for service provided in accordance with applicable rules. To be eligible to receive payment from the TRS Fund, a VRS provider must be granted certification by the Commission. To allow TRS users to choose among competing service providers, the Commission has certified multiple firms to offer each of these services.

2. Adoption of Anti-Fraud Rules in 2011. More than ten years ago, a wave of fraud and abuse “plagued the [VRS] program and threatened its long-term sustainability.” Numerous uncertified entities were providing VRS or purporting to do so, without effective supervision, while using certified VRS providers as billing agents to obtain payment--sometimes fraudulently—from the TRS Fund. In response, the Commission prohibited or restricted a number of VRS provider practices that increased the likelihood of fraud and abuse. The Commission prohibited TRS Fund compensation for VRS calls handled by CAs working at home and prohibited compensation arrangements that tie a CA's compensation to the number of minutes or calls processed by a CA. In addition, the Commission amended its rules to prohibit an eligible (i.e., FCC-certified) VRS provider from contracting with or otherwise authorizing any third party to provide interpretation services or call center functions (including call distribution, call routing, call setup, mapping, call features, billing, and registration) on its behalf, unless that authorized third party also is an eligible VRS provider. Further, the Commission sharply restricted compensation of VRS providers for calls placed to the United States from foreign locations, prohibiting TRS Fund compensation for such VRS calls, subject to a limited exception for calls placed during travel—by a U.S. resident who has pre-registered with his or her default provider prior to leaving the country, during specified periods of time while on travel and from specified regions of travel, for which there is an accurate means of verifying the identity and location of such callers.

3. Reauthorization of At-Home VRS Call Handling. In 2017, recognizing that anti-fraud safeguards and advances in network technology appeared to have reduced the fraud and abuse risks associated with CAs working at home, the Commission authorized a pilot program whereby participating VRS providers could permit some CAs to work at home, so long as the provider complied with the Commission's mandatory minimum standards and with specified personnel, technical, and environmental safeguards, as well as with monitoring, oversight, and reporting requirements. Three years later, the Commission further amended its rules to allow at-home call-handling on a permanent basis, subject to safeguards similar to those of the pilot program. Among other requirements, the current rules limit at-home call handling to a maximum of 50% of a provider's monthly VRS minutes and require that CAs working at home have at least three years of American Sign Language (ASL) interpreting experience.

4. COVID-19 Pandemic Waivers. During the COVID-19 pandemic national emergency, to ensure the uninterrupted availability of VRS, the Commission temporarily waived several rules applicable to VRS providers. At the beginning of the pandemic, VRS providers reported sharp increases in the volume of calls and decreases in call center staffing, which made it difficult to comply with certain minimum TRS standards. Providers also moved CAs to home workstations to comply with social distancing requirements and stay-at-home orders. To address these extraordinary circumstances, the Consumer and Governmental Affairs Bureau (CGB or Bureau), on its own motion, temporarily waived several VRS rules, including the three that the Commission proposes to modify or eliminate in this document. Due to the pandemic's continuing impact on VRS operations, all the above waivers were extended for additional periods in successive orders, including one by the full Commission.

5. Convo Petition for Rulemaking. On June 4, 2021, Convo Communications, LLC (Convo) filed a petition requesting that the Commission initiate a rulemaking proceeding to modify several of the VRS rules that had previously been waived. Convo urged the Commission to raise the percentage of permitted VRS at-home call-handling to 80% of a provider's monthly minutes and to allow a VRS provider to use contract CAs for up to 30% of its monthly minutes. On June 17, 2021, the Bureau released a public notice seeking comment on Convo's Petition.

Proposed Rules

6. VRS providers report an increasing shortage of ASL interpreters able and willing to work as VRS CAs. This shortage, which appears to have begun before the onset of the COVID-19 pandemic, has been aggravated by the pandemic but appears likely to continue well beyond its end. In light of these developments, the Commission proposes to eliminate or modify certain requirements that may be no longer needed in their current form and that may unnecessarily restrict the available pool of ASL interpreters who are able and willing to work as VRS CAs.

7. Cap on VRS Minutes Handled by CAs Working at Home. The Commission proposes to increase from 50% to 80% the percentage of a VRS provider's monthly minutes that may be handled by CAs working at home. In adopting permanent rules to allow at-home call handling, the Commission found that allowing CAs to work at home could improve the efficiency and effectiveness of VRS by enabling VRS providers to attract and retain qualified CAs for whom working at the companies' call centers was not a practical option. The Commission also noted that working at home could reduce CA stress and improve productivity and performance. Based on its experience with at-home call handling to date, the Commission believes these benefits can be enhanced by allowing VRS providers, on a permanent basis, more flexibility to employ additional teleworking CAs if warranted by a provider's own assessment of the effects on efficiency and service quality. The Commission also believes that, in general, VRS providers are unlikely to add more teleworking CAs if doing so will detract from service quality. Finally, the Commission believes the safeguards of its at-home rules are sufficient to ensure that a permanent increase in reliance on at-home call handling, up to the proposed 80% maximum, does not adversely affect call confidentiality or increase the risk of waste, fraud, and abuse. The Commission also believes that permanently raising the at-home cap is a necessary measure to help maintain a sufficient supply of qualified VRS CAs, many of whom are reluctant, unable, or unwilling to work from a call center.

8. The Commission seeks comment on this proposal, including the assumptions above and the costs, risks, and benefits. If the cap is permanently raised, would VRS providers maintain or increase the percentage of CAs working at home? What factors do providers consider (apart from public health considerations related to the pandemic) in deciding whether to maintain or increase reliance on CAs working from home? For example, do providers consider primarily the opportunity to save costs, or to improve or maintain service quality, e.g., by maintaining or adding CAs who may be unable or unwilling to work in call centers, and in particular more experienced CAs? Would permanently raising the cap substantially expand the pool of interpreters potentially able to work as VRS CAs, and if so, by how much? Would a return to the 50% cap result in a loss of CAs and a reduction in service quality? What kinds of costs savings, if any, have resulted or will result from increased at-home call-handling, and how are the new costs or cost savings of this practice calculated? For example, do hourly wages differ for CAs working at home or in call centers—and if so, by how much? The Commission also asks commenters to provide quantitative data on the extent to which increasing the percentage of at-home CAs has resulted in or will result in a reduction in call center overhead costs over the costs of establishing and maintaining at-home workstations. To the extent that there are both benefits and harms from increasing the use of at-home CAs, how should they be balanced?

9. What are the possible adverse effects, if any, of raising the cap? How is the quality of interpreting affected, if at all, when calls are handled by CAs working at home? Are consumers able to discern that a call is being handled by a CA working at home? If so, what differences, if any, do consumers detect in the quality of at-home versus call-center calls? The Commission also invites VRS providers to share the results of any analyses they have conducted regarding differences, if any, in call quality or complaint frequency for call-center and teleworking CAs.

10. What specific concerns, if any, would be raised by permanently raising the cap, with respect to providers' ability to serve demand efficiently, protect the confidentiality of conversations, and prevent waste, fraud, and abuse? What technical, operational, training, or other challenges have been faced by providers, and how have they responded to ensure that service quality, confidentiality, and other requirements do not suffer? What specific lessons have VRS providers learned about the advantages, disadvantages, and challenges of having calls handled by CAs working at home?

11. The Commission also seeks information on how providers select and train CAs allowed to work at home. Do providers require CAs to work in call centers if one is available within commuting distance and there is no valid reason why the CA must work at home? Or is each CA allowed to choose where to work, if qualified to work at home? Should the Commission impose any additional training or other requirements in connection with increased use of CAs working at home or other proposals in the NPRM?

12. The Commission also seeks comment, supported by quantitative data where possible, on whether 80%—or a different percentage—is an appropriate limit for monthly at-home minutes. Alternatively, should the Commission eliminate the cap altogether, and rely solely on VRS providers' business judgement to determine to what extent it is appropriate to rely on at-home CAs? Is a minimum level of call center staffing necessary to ensure continuity of service? Alternatively, is such a minimum necessary to ensure that certain types of calls are handled appropriately—e.g., emergency calls? Are there other types of calls or call scenarios, e.g., those requiring multiple interpreters, that are more effectively handled at a call center? How frequent are such calls? Would it be feasible to transfer such calls to a call center once it is determined that multiple CAs are required?

13. Three-Year Experience Rule. The Commission proposes to reduce or eliminate the requirement that an at-home CA have at least three years of experience providing interpretation services. This rule was adopted to ensure that CAs working at home are able to handle and interpret VRS calls without in-person supervision. However, the Commission also sought to avoid imposing requirements that impede VRS providers' ability to recruit CAs from an expanded pool of skilled labor. The Commission revisits the need for this rule in light of the ongoing shortage of VRS CAs. Based on the past two years of experience with at-home call-handling—during which this requirement has been waived—the Commission now believes that the three-year requirement is not needed to maintain service quality. VRS providers, like other employers, report that during the pandemic, VRS CAs have demonstrated an ability to work effectively in the home environment. In addition, the Commission notes that its personnel safeguards for at-home CAs require that a CA must be “a qualified interpreter” who “has the experience, skills, and knowledge necessary to effectively interpret VRS calls without in-person supervision, has learned the provider's protocols for at-home call handling, and understands and follows the TRS mandatory minimum standards.” VRS providers must also provide at-home CAs with the same support and supervision as CAs in call centers. These rules, coupled with the technical requirements for effective supervision, help ensure that teleworking CAs will handle calls efficiently and effectively in the home environment.

14. The Commission also believes that competition among VRS providers will help ensure that VRS providers make appropriate decisions regarding the qualifications of CAs they allow to work at home. Pursuant to the Commission's longstanding policy to allow VRS users to choose among multiple providers, consumers have the opportunity to choose the VRS provider that offers the highest quality of service. Therefore, it appears that VRS providers have a substantial incentive to ensure that any CA allowed to work at home is qualified to do so. The Commission seeks comment on its proposal and these underlying assumptions. What are the costs and benefits of maintaining a three-year experience requirement for at-home CAs? How should the Commission balance the need for effective interpretation skills with allowing VRS providers access to a larger pool of available interpreters?

15. The Commission seeks comment on alternative ways to modify the rule. For example, should the Commission retain an experience requirement? Would one or two years of interpreting experience meet the goal of ensuring effective interpretation without direct supervision? Is it necessary for initial VRS training to be conducted at a call center? Should CAs have logged a certain number of minutes of supervised, call-center-based VRS call handling before being allowed to work at home? Or are the remaining requirements in § 64.604(b)(8)(ii)(A) of the Commission's rules sufficient to provide assurance that a VRS CA can work effectively without in-person supervision? Are there any other conditions that may be warranted to support continued high quality VRS service in connection with any of the Commission's proposals?

16. The Commission seeks comment on whether other changes should be made in the at-home VRS call-handling rules, based on experience over the last two years. Commenters should identify any current rule that they think should be modified, explain in detail why such modifications would advance the purposes of section 225 of the Act, and provide factual support for their recommendations based on actual experience.

17. Contracting for CAs. The Commission proposes to modify the restriction on VRS providers' ability to contract for CA services, to allow VRS providers to contract for interpretation services for up to 30% of their monthly call minutes. The Commission adopted this rule in 2011 to end the proliferation of arrangements whereby uncertified entities were providing VRS pursuant to subcontracting agreements with eligible providers. Due to the obstacles they posed to effective oversight, the Commission reasoned, such arrangements encouraged and facilitated fraudulent billing of the TRS Fund for non-compensable calls. To reduce fraud and establish better oversight of the VRS program, the Commission amended its rules to prohibit the subcontracting of interpreting and call-center functions to third parties whose operations are not under the direct supervision of the Commission.

18. The Commission believes that its proposed modification of the current restriction on contracting for interpretation services (which would not change the rule's restriction on contracting for call center functions) will help alleviate the ongoing shortage of VRS CAs. The restriction on contracting for interpretation services has been waived on an emergency basis during the COVID-19 pandemic, but the shortage of VRS CAs, while aggravated by the pandemic, is likely to outlast it.

19. The record suggests that permanently allowing VRS providers to contract for interpretation services will enable providers to continue retaining the services of many qualified ASL interpreters who prefer not to sign up as VRS provider employees. According to Convo, many of the VRS interpreters it hires through a contractor only want a short assignment or want to supplement their community-interpreting income by working limited shifts as a VRS CA. Convo also asserts that contract CAs can help providers respond to short term fluctuations in both demand and CA availability, for example, when a weather event causes both a spike in traffic and the closing of a call center. The Commission believes that VRS providers and users can benefit from the flexibility that contracting allows providers during short-time fluctuations in demand. Does allowing VRS providers to contract for up to 30% of their monthly minutes provide sufficient flexibility for that purpose? The Commission seeks comment on its proposal, these underlying assumptions, and the costs and benefits of allowing VRS providers to contract for interpretation services from uncertified entities.

20. The Commission also seeks comment on any risks of harm currently posed by the use of contract CAs. Some commenters on the Convo Petition raised the concern that relaxing the rule could reinstate incentives and opportunities for fraud and abuse by VRS providers. Have there been changes in the VRS industry in the last 10 years that reduce these concerns? Are other measures instituted by the Commission sufficient to prevent fraud and abuse? Since April 2020, when the Bureau initially waived the prohibition on contracting for CA services as part of the Commission's pandemic emergency measures, has there been any indication of increased waste, fraud, and abuse? Would allowing VRS providers to contract for interpretation services on a permanent basis run the risk of changing providers' incentives regarding the making of VRS calls that would not otherwise be made?

21. The Commission also seeks comment on what conditions it could impose to limit any risk of waste, fraud, and abuse that may result from the use of contract CAs? In adopting the contracting restriction, the Commission explained that the proliferation of ineligible VRS providers prior to 2011 had frustrated its ability to exercise effective oversight of the VRS program. Should organizations contracting with a VRS provider for interpretation services be required to register with the Commission and agree to direct oversight, including audits, inspection of records, etc.? Alternatively, should the Commission require the VRS provider to expressly accept responsibility for any fraud or abuse committed by a contracting CA or agency? In addition, what records should the Commission require VRS providers to keep regarding transactions with and services provided by contracting CAs or agencies, in addition to copies of the contracts themselves? What information about the use of contract CAs should be included in VRS providers' annual reports? For example, should the Commission require VRS providers to identify each entity with which it has contracted for interpretation services and the number of conversation minutes handled by each? Should the Commission allow contract CAs to be stationed outside the United States?

22. The Commission also seeks comment on permissible payment arrangements for contract CAs. For example, the Commission's current rules prohibit VRS providers from providing compensation or other benefits to CAs in any manner that is based upon the number of VRS minutes or calls that the CA relays, either individually or as part of a group. Is this rule sufficient—and sufficiently clear—to prevent incentives to generate minutes that would not otherwise have been made by individuals using VRS, artificially lengthen the time of a call, or create fictional calls where no relaying takes place? To limit incentives for fraud and abuse, should the Commission expressly require VRS providers to pay contract interpreters or agencies based on hours of availability, rather than call or session minutes? Are there other safeguards that the Commission should require in contracts with contracting CAs or agencies?

23. Is 30% an appropriate cap on the number of minutes handled by contract interpreters? Would a different percentage cap strike a more appropriate balance between the need for provider flexibility and the risk of waste, fraud, and abuse? Should the Commission direct the Consumer and Governmental Affairs Bureau to conduct a review of the level of the cap, e.g., three years after the effective date of the rules, to determine if the 30% limit continues to be necessary to prevent waste, fraud, and abuse, or if adjustments are needed in light of experience?

24. To enable enforcement of the cap and facilitate review of the need for or possible changes in the cap, the Commission proposes to require VRS providers to identify, in their monthly call reports, those CAs that are working on a contract basis. The Commission seeks comment on this proposal.

25. The Commission also seeks comment on how its rules on at-home call-handling should be amended to address the use of contract CAs to work from home workstations. Should contract CAs be allowed to work from home? What amendments to the Commission's rules, if any, would be needed to ensure compliance with the Commission's at-home call-handling requirements? Because contract CAs are not employees of the VRS provider, should VRS providers be required to obtain written assurance from contract CAs that they will comply with each relevant requirement if they are allowed to work from home?

26. International Calling Restrictions. The Commission proposes to modify the current restriction on TRS Fund compensation for calls placed to the United States by registered VRS users temporarily located abroad. The Commission proposes to modify the current notice requirement for such calls, to allow payment of compensation if the default VRS provider has been notified of the user's travel plans at any time before such a call is placed. In addition, the Commission proposes to codify the Declaratory Ruling in document FCC 22-51, by amending its rules to provide that such calls may be compensated if placed up to one year after a user leaves the United States.

27. The Commission's rules currently prohibit TRS Fund compensation for any VRS calls placed to the United States from foreign IP addresses, except calls made by a U.S. resident who has pre-registered with his or her default provider prior to leaving the United States, during specified periods of time while on travel and from specified regions of travel, for which there is an accurate means of verifying the identity and location of such callers. In adopting this rule, the Commission stated, in a footnote, that “specified periods of time” was not intended to mean extended periods of time, which it defined as more than four weeks.

28. In the Declaratory Ruling in document FCC 22-51, the Commission finds that interpreting this exception as limited to periods of no longer than four weeks imposes unnecessary restrictions on registered VRS users who are traveling internationally. That interpretation was adopted at a time when the VRS program was plagued by fraud and abuse, much of which involved international calls placed to the United States from foreign IP addresses. Since then, however, the anti-fraud measures adopted by the Commission appear to have been effective in suppressing illegal VRS calling. Further, in 2019, the Commission implemented the User Database, in which the identity of each registered VRS user is entered and verified in a central database. The vetting of each VRS user by the TRS Fund administrator provides additional assurance against payment of compensation for fraudulent VRS calls, including calls from unknown users located outside the United States.

29. The Commission proposes to amend its rules to clarify that calls originating from international IP addresses may be compensated if placed within one year after a user leaves the United States. The proposed revision would: relax the current preregistration requirement to allow notification to the user's default VRS provider at any time prior to placing such calls; and clarify that such notifications may specify travel periods for up to one year. Under this proposed modification, the content of the required notification must include the specific regions of travel, the date of departure from the United States, and the approximate date when the individual intends to return to the United States. The Commission seeks comment on the proposal and its costs and benefits. Does the proposed revision, in conjunction with the existing User Database rules and other fraud prevention measures, sufficiently address the risk of waste, fraud and abuse that the current rule was intended to prevent?

30. The Commission also notes that as a result of the pandemic waiver orders, the prohibition on calling the United States from abroad has been largely waived. Is there evidence of waste, fraud, or abuse in international calling during that period? If so, does such evidence warrant changes to this proposal?

31. Statutory Authority. The Commission seeks comment on whether these proposed revisions are consistent with section 225 of the Act, which directs the Commission to ensure the availability of TRS to persons with hearing or speech disabilities “in the United States.” Other than requiring that compensable calls must either originate or terminate in the United States, the Commission has not formally determined what limits this statutory language places on TRS Fund support for calls placed by persons located abroad. However, the Commission requires that, to register for internet-based TRS, a consumer must establish that he or she is a U.S. resident, at least on a temporary basis. In the Declaratory Ruling in document FCC 22-51, the Commission finds that one year is long enough to cover most reasons why U.S. residents would be traveling abroad and is a reasonable “default” time limit to prevent the use of TRS funds to support VRS calls by persons who can no longer be considered U.S. residents.

32. The Commission seeks comment on codifying these determinations. Is one year an appropriate maximum duration? For example, is this period long enough to cover students studying abroad, employees on temporary work assignments abroad, or individuals on extended travel? Is a one-year limit, combined with other safeguards such as the User Database, an effective means of ensuring that the use of VRS by individuals located outside the United States is limited to U.S. residents who are only temporarily living abroad and have an intent to return to the United States?

33. Extensions. The Commission also seeks comment on whether to allow extensions of the one-year limit. For example, should the Commission adopt an informal process for individuals to apply to the Disability Rights Office for an extension of the one-year maximum period, and be granted such an extension upon a showing that the individual's primary residence remains in the United States, even though the individual will remain abroad longer than one year?

34. Proposed Exception for Military and U.S. Government Personnel. The Commission proposes an exception to the one-year maximum time period for calls to the United States by registered VRS users who are U.S. military personnel, federal government employees, or federal contractors (or their accompanying immediate family members) temporarily stationed outside the United States. Under this proposed exception, the content of the required notification to the default provider must include the specific regions of foreign assignment, the date of departure from the United States, the contemplated end date for the foreign assignment, and that the user (or a family member of the user) is a member of the military services, or is employed by a federal government agency or federal contractor, and is temporarily stationed outside the United States. If the user's foreign assignment does not contain an end date, the user may specify an end date that is one year after the date of departure. The Commission proposes that this exception apply for the duration of the user's (or family member's) foreign assignment plus an additional time period following the end of such assignment to allow the user additional time to travel abroad and return to the United States. How long should the Commission allow as an additional time period beyond the end of the foreign assignment? The Commission also proposes that, if the foreign assignment is extended (or an assignment that does not contain an end date lasts more than one year), the user must notify his or her default provider of the new end date of the assignment to continue making VRS calls during such extension (plus the permitted additional time period). The Commission seeks comment on this proposed exception, including its costs and benefits. The Commission also proposes to apply this exception to individuals placing calls to the United States from U.S. military and government organizations with enterprise VRS registrations.

35. Should the scope or conditions of this proposed exception be modified? For example, are there other categories of users who should be included in the exception? In the case of lengthy foreign assignments, how should providers (and indirectly the Fund administrator) be made aware of the status of such users—via an ad hoc notice from the user, from the relay official or other responsible individual specified in an enterprise registration, see 47 CFR 64.611(a)(6)(ii)(A), or in some other way? Should confirmation of the user's eligibility for this exception be required?

Initial Regulatory Flexibility Analysis

36. As required by the Regulatory Flexibility Act of 1980, as amended, the Commission has prepared the Initial Regulatory Flexibility Analysis (IRFA) of the possible significant economic impact on a substantial number of small entities by the policies and rules proposed in this document. Written public comments are requested on the IRFA. Comments must be identified as responses to the IRFA and must be filed by the deadline for comments provided in this document.

37. Need for, and Objective of, the Proposed Rules. The Commission proposes to increase from 50% to 80% the cap on call minutes that can be handled by VRS communications assistants from home work stations, eliminate the three-year experience requirement for at-home VRS CAs, and allow VRS providers to contract for interpretation services from entities that are not also certified VRS providers for up to 30% of their monthly call minutes. These changes would increase the pool of available VRS CAs and give VRS providers more flexibility in ensuring that they have sufficient staff to meet the demand from VRS users, which can fluctuate during a day and over longer periods of time. The Commission also proposes to allow compensation from the TRS Fund for VRS calls originating from international IP addresses to the United States for up to one year while the user is on travel, and for the duration of their required service overseas for United States miliary personnel and federal government works and contractors who are stationed abroad, including their immediate family members living with them.

38. Legal Basis. The authority for this proposed rulemaking is contained in sections 1, 2, and 225 of the Communications Act of 1934, as amended, 47 U.S.C. 151, 152, 225.

39. Description and Estimate of the Number of Small Entities Impacted. If the proposed rules are adopted, the rules will affect the obligations of Video Relay Service providers. These services can be included within the broad economic category of All Other Telecommunications.

40. Description of Reporting, Recordkeeping, and Other Compliance Requirements. The Commission's existing rules require VRS providers to report on the use of CAs utilizing at-home work stations. The proposed rule would increase from 50% to 80% the percentage of a VRS provider's monthly call minutes that may be handled by at-home CAs. VRS providers who rely on at-home CAs would have to separately track the monthly call minutes handled by those CAs.

41. The Commission proposes to allow VRS providers to employ contract CAs and to permit contract CAs to handle up to 30% of a provider's total monthly call minutes. VRS providers may have to separately track call minutes handled by contract CAs. If a VRS provider employs contract CAs, it may be required to, upon request, make available to the Commission and the TRS Fund administrator written copies of such contracts. VRS providers who employ contract CAs also may be required to submit reports on such personnel at regular intervals.

42. The Commission proposes to allow VRS users to make calls to the United States from international locations for up to one year while on travel and require VRS users to notify their default VRS providers of their travel plans before they start making such calls. The Commission also proposes to allow federal employees, contractors, and their immediate family members to make VRS calls from international locations for the length of their service while stationed abroad plus up to an additional 90 days to allow for travel while returning to the United States after such individuals notify their default VRS provider of where they are stationed and the length of their service tour. New or modified reporting, recordkeeping, or other compliance obligations may be imposed on VRS providers in association with tracking VRS users while on international travel.

43. Steps Taken to Minimize Significant Impact on Small Entities, and Significant Alternatives Considered. Participation in the at-home call-handling program would continue to be optional for VRS providers. The Commission is not proposing any new requirements that would increase regulatory requirements beyond those that are already required as part of the at-home call-handling program. The existing and proposed requirements would apply equally to all VRS providers and are necessary to prevent waste, fraud, and abuse of the TRS Fund by ensuring that CAs are subject to proper supervision and accountability. To the extent there are differences in operating costs resulting from economies of scale, those costs are reflected in the different rate structures applicable to large and small VRS providers.

44. The proposal to permit VRS providers to hire contract CAs is designed to increase the pool of American Sign Language interpreters available and willing to work as VRS CAs. Hiring contract CAs would be optional for VRS providers. Those VRS providers that choose to hire contract CAs may be subject to certain reporting, recordkeeping, and other obligations associated with the hiring of such personnel. The proposed requirements would apply equally to all VRS providers using contract CAs and are necessary to prevent waste, fraud, and abuse of the TRS Fund. To the extent there are differences in operating costs resulting from economies of scale, those costs are reflected in the different rate structures applicable to large and small VRS providers.

45. The proposal to modify from four weeks to one year the time period during which VRS users may make calls to the United States from international locations is designed to provide more flexibility to VRS users and bring the specified period of time in line with the Commission's updated interpretation of this rule. Similarly, the Commission is proposing to allow federal military, employees, and contractors, and their immediate family members to make international VRS calls to the United States for the time period of their tour of duty abroad plus an additional 90 days to allow for travel back to the United States. The Commission is not proposing any new requirements that would increase regulatory requirements beyond those that are already required of VRS providers handling international calls. The existing and proposed requirements would apply equally to all VRS providers and are necessary to prevent waste, fraud, and abuse of the TRS Fund by ensuring that only U.S. residents are permitted to make VRS calls to the United States from abroad. To the extent there are differences in operating costs resulting from economies of scale, those costs are reflected in the different rate structures applicable to large and small VRS providers.

46. Federal Rules Which Duplicate, Overlap, or Conflict With, the Commission's Proposals. None.

Initial Paperwork Reduction Act of 1995 Analysis

The Commission seeks comment on proposed rule amendments that may result in modified information collection requirements. If the Commission adopts any modified information collection requirements, the Commission will publish another notice in the Federal Register inviting the public to comment on the requirements, as required by the Paperwork Reduction Act. Public Law 104-13; 44 U.S.C. 3501-3520. In addition, pursuant to the Small Business Paperwork Relief Act of 2002, the Commission seeks comment on how it might further reduce the information collection burden for small business concerns with fewer than 25 employees. Public Law 107-198; 44 U.S.C. 3506(c)(4).

List of Subjects in 47 CFR Part 64

Individuals with disabilities, Telecommunications, Telecommunications relay services.

Federal Communications Commission.
Marlene Dortch,
Secretary, Office of the Secretary.

Proposed Regulations

For the reasons discussed in the preamble, the Federal Communications Commission proposes to amend Title 47 of the Code of Federal Regulations as follows:

PART 64—MISCELLANEOUS RULES RELATING TO COMMON CARRIERS

1. The authority citation for part 64 is revised to read as follows:

Authority: 47 U.S.C. 151, 152, 154, 201, 202, 217, 218, 220, 222, 225, 226, 227, 227b, 228, 251(a), 251(e), 254(k), 255, 262, 276, 403(b)(2)(B), (c), 616, 617, 620, 1401-1473, unless otherwise noted; Public Law 115-141, Div. P, sec. 503, 132 Stat. 348, 1091.

2. Amend § 64.604 by revising paragraphs (a)(7), (b)(8)(i)(A), (B), and (ii)(A), and (c)(5)(iii)(N)(1)(iii) to read as follows:

§ 64.604 Mandatory minimum standards.

* * * * *

(a) * * *

(7) International calls.

(i) VRS calls that originate from an international IP address will not be compensated, except in accordance with this section. For purposes of this section, an international IP address is defined as one that indicates that the individual initiating the call is located outside the United States and its territories.

(ii) A VRS provider may seek TRS Fund compensation for VRS calls placed to the United States by a United States resident who is a registered VRS user, if:

(A) Such calls are placed one year or less after the VRS user departs the United States; and

(B) At any time prior to placing such calls, the VRS user notifies the user's default provider of the specific region(s) of travel, the date of departure from the United States, and the intended date of return to the United States.

(iii) A registered VRS user may request approval from the Commission's Disability Rights Office for an extension of the one-year international calling period. Such request shall include a showing that the user's primary residence remains in the United States, even though the user will remain outside the United States longer than one year. Upon approval of such an extension, the user shall notify the user's default VRS provider of such change, and the provider may seek compensation for international calls placed by the user through the end of such extended return date.

(iv) A VRS provider may seek TRS Fund compensation for VRS calls placed to the United States, pursuant to an individual or enterprise VRS registration, by a United States resident who is a United States military or federal government employee or contractor temporarily stationed abroad, or an immediate family member of such employee or contractor, if:

(A) Such calls are placed either during the period of such foreign assignment or within 90 days after the end date of such foreign assignment; and

(B) At any time prior to placing such calls, the registered VRS user, or the Relay official or other responsible individual designated in an enterprise registration, notifies the default VRS provider of the specific regions of foreign assignment, the date of departure from the United States, and the intended end date of the foreign assignment, and that the user (or an immediate family member of the user) is a United States military or federal employee or contractor, and is temporarily stationed outside the United States. If the foreign assignment is extended, the registered VRS user, or the Relay official or other responsible individual designated in an enterprise registration, shall notify the default VRS provider of the new end date of such foreign assignment and of any change of the region where the user is stationed.

(C) For purposes of this section, an “immediate family member” is a parent, spouse, or child of a United States military or federal government employee or contractor.

(D) If the intended end date of the foreign assignment is not known as of the time of notification to the default VRS provider, the notification may specify one-year from the date of departure from the United States as the end date.

(b) * * *

(8) * * *

(i) * * *

(A) Eighty percent (80%) of a VRS provider's total minutes for which compensation is paid in that month; or

(B) Eighty percent (80%) of the provider's average projected monthly conversation minutes for the calendar year, according to the projections most recently filed with the TRS Fund administrator.

(ii) * * *

(A) Allow a CA to work at home only if the CA is a qualified interpreter who has the experience, skills, and knowledge necessary to effectively interpret VRS calls without in-person supervision, has learned the provider's protocols for at-home call handling, and understands and follows the TRS mandatory minimum standards set out in this section; and

* * * * *

(c) * * *

(5) * * *

(iii) * * *

(N) * * *

(1) * * *

(iii) Contracting of call center functions. An eligible VRS provider shall not contract with or otherwise authorize any third party to provide call center functions (including call distribution, call routing, call setup, mapping, call features, billing, and registration, but not including interpretation services) on its behalf, unless that authorized third party also is an eligible provider. An eligible VRS provider may contract with third parties to provide interpretation services for up to a maximum of the greater of: thirty percent (30%) of a VRS provider's total minutes for which compensation is paid in that month; or thirty percent (30%) of the provider's average projected monthly conversation minutes for the calendar year, according to the projections most recently filed with the TRS Fund administrator. A VRS provider that contracts for interpretation services shall submit a written report every six months that identifies each entity with which it contracted for interpretation services and the number of conversation minutes handled by each such contractor. Such reports shall be submitted on August 1 covering the six months from January through June and February 1 covering the six months from July through December, and shall be included with the semi-annual call center reports required by section 64.604(c)(5)(iii)(N)(2) of this chapter.

* * * * *

[FR Doc. 2022-25341 Filed 12-7-22; 8:45 am]

BILLING CODE 6712-01-P